ENVIRONMENTAL PROTECTION AGENCY

40 CFR Part 147

[EPA-HQ-OW-2020-0595; FRL 10019-85-OW]

State of Michigan Underground Injection Control (UIC) Class II Program; Primacy Approval

AGENCY: Environmental Protection Agency (EPA).

ACTION: Proposed rule.

SUMMARY: The U.S. Environmental Protection Agency (EPA or Agency) is proposing to approve the State of Michigan's Underground Injection Control Class II (UIC) Program for primacy. EPA determined that the State's program is consistent with the provisions of the Safe Drinking Water Act (SDWA) at Section 1425 to prevent underground injection activities that endanger underground sources of drinking water. The Agency's approval allows Michigan to implement and enforce its state regulations for UIC Class II injection wells located within the State. Michigan's authority excludes the regulation of injection well Classes I, III, IV, V and VI, and all wells in Indian country, as required by rule under the SDWA. The Agency requests public comment on this proposed rule and supporting documentation. In the “Rules and Regulations” section of this Federal Register, the Agency published EPA's approval of the State's program as a direct final rule without a prior proposed rule. If the Agency receives no adverse comment on the direct final rule, EPA will not take further action on this proposed rule.

DATES: Written comments must be received by April 19, 2021.

ADDRESSES: You may submit comments, identified by Docket ID No. EPA-HQ-OW-2020-0595, through the Federal eRulemaking Portal at: https://www.regulations.gov/. Follow the online instructions for submitting comments. All submissions received must include the Docket ID No. for this rulemaking. Comments received may be posted without change to https://www.regulations.gov/, including any personal information provided. For detailed instructions on sending comments and additional information on the rulemaking process, see the “Public Participation” heading of the SUPPLEMENTARY INFORMATION section of this document. Out of an abundance of caution for members of the public and our staff, the EPA Docket Center and Reading Room are closed to the public, with limited exceptions, to reduce the risk of transmitting COVID-19.Our Docket Center staff will continue to provide remote customer service via email, phone, and webform. We encourage the public to submit comments via https://www.regulations.gov/ or email, as there may be a delay in processing mail. Hand deliveries and couriers may be received by scheduled appointment only. For further information on EPA Docket Center services and the current status, please visit us online at: https://www.epa.gov/dockets.

EPA is offering one virtual public hearing so that interested parties may also provide oral comments on the proposed rulemaking. For more information on the virtual public hearing and to register to attend, please visit: https://www.epa.gov/npdes/. Refer to the SUPPLEMENTARY INFORMATION section below for additional information.

FOR FURTHER INFORMATION CONTACT: Kyle Carey, Drinking Water Protection Division, Office of Ground Water and Drinking Water (4606M), U.S. Environmental Protection Agency, 1200 Pennsylvania Ave. NW, Washington, DC 20460; telephone number: (202) 564-2322; fax number: (202) 564-3754; email address: carey.kyle@epa.gov, or Anna Miller, UIC Section, U.S. Environmental Protection Agency, 77 West Jackson Boulevard, Chicago, IL 60604; telephone number: (312) 886-7060; email address: miller.anna@epa.gov.

SUPPLEMENTARY INFORMATION: This supplementary information section is organized as follows:

I. Public Participation

Submit your written comments, identified by Docket ID No. EPA-HQ-OW-2020-0595, at https://www.regulations.gov. Follow the online instructions for submitting comments. Once submitted, comments cannot be edited or removed from the docket. EPA may publish any comment received to its public docket. Do not submit electronically any information you consider to be Confidential Business Information (CBI) or other information whose disclosure is restricted by statute. Contact EPA if you want to submit CBI; see FOR INFORMATION CONTACT section of this document. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

EPA continues to carefully and continuously monitor information from the Centers for Disease Control and Prevention (CDC), local area health departments, and our federal partners so that we can respond rapidly as conditions change regarding COVID-19.

II. The Proposed Rule

EPA proposes to approve Michigan's UIC Program primacy application for Class II injection wells located within the State (except all wells in Indian country), because it meets all requirements under SDWA for such programs. The proposed rule would grant Michigan primary enforcement authority to prevent Class II (oil and gas-related) underground injection activities that endanger underground sources of drinking water. Accordingly, the Agency proposes to codify the State's program in the Code of Federal Regulations (CFR) at 40 CFR part 147. EPA will continue to administer the UIC Program for injection well Classes I, III, IV, V and VI, and for all wells in Indian country.

EPA has published a direct final rule in the “Rules and Regulations” section of the Federal Register, approving the State's program because EPA views this approval as noncontroversial and anticipates no adverse comment. For the Agency's rationale for approval and additional supplementary information, please see the preamble to the direct final rule. If EPA receives no adverse comment on the direct final rule, the Agency will not take further action on this proposed rule. If EPA receives adverse comment on the direct final rule, the Agency will withdraw the direct final rule and it will not take effect. The Agency would then consider and address all public comments in any subsequent final rule based on this proposed rule. The Agency does not intend to institute a second comment period. Any parties interested in commenting must do so at this time.

For further information, please contact the persons listed in the FOR FURTHER INFORMATION CONTACT section.

Jane Nishida,
Acting Administrator.

[FR Doc. 2021-05436 Filed 3-18-21; 8:45 am]

BILLING CODE 6560-50-P